DEPARTMENT OF STATE

[Public Notice: 7221]

State-40, Employee Contact Records

SUMMARY: Notice is hereby given that the Department of State proposes to amend an existing system of records, Electronic Telephone Directory (e*Phone), State-40, pursuant to the provisions of the Privacy Act of 1974, as amended (5 U.S.C. 552a) and Office of Management and Budget Circular No. A-130, Appendix I. The Department's report was filed with the Office of Management and Budget on September XX, 2010.

It is proposed that the name of the current system, “Electronic Phone Directory (e*Phone)” be changed to “Employee Contact Records.” It is also proposed that the amended system description will include substantive and/or administrative changes to the following sections: System name; Categories of individuals; Categories of records; Authority; Purpose; Routine uses; Safeguards; and Record source. Any persons interested in commenting on the amended system of records may do so by submitting comments in writing to Director, Office of Information Programs and Services, A/GIS/IPS, Department of State, SA-2, 515 22nd Street, Washington, DC 20522-8001. This system of records will be effective 40 days from the date of publication, unless we receive comments that will result in a contrary determination.

The amended system description, “Employee Contact Records, State-40,” will read as set forth below.

Dated: September 20, 2010.
Steven J. Rodriguez,
Deputy Assistant Secretary of Operations, Bureau of Administration, U.S. Department of State.

STATE-40

SYSTEM NAME:

Employee Contact Records.

SECURITY CLASSIFICATION:

Sensitive but Unclassified (SBU).

SYSTEM LOCATION:

Department of State; 2201 C Street, NW.; Washington, DC 20520.

CATEGORIES OF INDIVIDUALS COVERED BY THE SYSTEM:

All Foreign Service, Civil Service, Locally Employed Staff and contract employees of the Department of State.

CATEGORIES OF RECORDS IN THE SYSTEM:

This system contains the following employee contact information: name, office contact information, personal contact information, employee-designated emergency contact information and employment type (government or contractor).

AUTHORITY FOR MAINTENANCE OF THE SYSTEM:

5 U.S.C. 301 (Management of the Department of State); 22 U.S.C. 2581 (General Authority of Secretary of State); 22 U.S.C 2651a (Organization of the Department of State); 5 U.S.C. 301, 22 U.S.C. 2581; National Security Presidential Directive (NSPD)-51/Homeland Security Presidential Directive (HSPD)-20 (May 4, 2007); National Continuity Policy Implementation Plan (August 2007); and Federal Continuity Directive 1 (February 2008).

PURPOSE(S):

The public and non-public information contained in the system is collected and maintained by the Department and is (1) used to develop the official locator directories for all personnel; and/or (2) used to communicate with employees in the event of an emergency in which designated contact information will be used; and/or (3) communicate with employee-designated emergency contact.

ROUTINE USES OF RECORDS MAINTAINED IN THE SYSTEM, INCLUDING CATEGORIES OF USERS AND PURPOSES OF SUCH USES:

The Department of State periodically publishes in the Federal Register its standard routine uses that apply to all of its Privacy Act systems of records. The notices appear in the form of a Prefatory Statement. All standard routine uses apply to the Employee Contact Records, State-40.

POLICIES AND PRACTICES FOR STORING, RETRIEVING, ACCESSING, RETAINING AND DISPOSING OF RECORDS IN THE SYSTEM:

STORAGE:

Electronic media.

RETRIEVABILITY:

Individual's name.

SAFEGUARDS:

All users are given cyber security awareness training which covers the procedures for handling Sensitive but Unclassified information, including personally identifiable information. Annual refresher training is mandatory. Before being granted access to Employee Contact Records, a user must first be granted access to the Department of State computer network.

Remote access to the Department of State network from non-Department owned systems is authorized only through a Department approved access program. Remote access to the network is configured in accordance with the Office of Management and Budget Memorandum M-07-16 security requirements, which includes but is not limited to two-factor authentication and time out function.

All users with authorized access have undergone a thorough security background investigation. Access to the Department of State, its annexes and posts abroad is controlled by security guards and admission is limited to those individuals possessing a valid Department of State identification card or individuals under proper escort. All records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

These records will be maintained until they become inactive, at which time they will be retired or destroyed in accordance with published record schedules of the Department of State and as approved by the National Archives and Records Administration (NARA). More specific information may be obtained by writing to the Director; Office of Information Programs and Services (A/GIS/IPS); SA-2; Department of State; 515 22nd Street, NW.; Washington, DC 20522-8001 or by fax at 202-261-8571.

SYSTEM MANAGER AND ADDRESS:

Bureau of Administration, Office of Emergency Management, Planning and Preparedness Division, 2430 E Street NW., Washington, DC 20520. Bureau of Information Resource Management, Enterprise Resource Management, 2201 C Street, NW., Washington, DC 20520.

NOTIFICATION PROCEDURE:

Individuals who have cause to believe that the Employee Contact Records might have records pertaining to them should write to the Director; Office of Information Programs and Services (A/GIS/IPS); Department of State; SA-2; 515 22nd Street, NW.; Washington, DC 20522-8001. The individual must specify that he/she requests that the records of the Employee Contact Records be checked.

RECORD ACCESS AND AMENDMENT PROCEDURES:

Individuals who wish to gain access to or amend records pertaining to them should write to the Director, Office of Information Programs and Services (address above).

CONTESTING RECORD PROCEDURES:

(See above).

RECORD SOURCE CATEGORIES:

The information is compiled directly from the individual and from Department automated sources.

SYSTEMS EXEMPTED FROM CERTAIN PROVISIONS OF THE ACT:

None.

[FR Doc. 2010-27667 Filed 11-1-10; 8:45 am]

BILLING CODE 4710-24-P